DEPARTMENT OF ENERGY

Federal Energy Regulatory Commission

Combined Notice of Filings #2

Take notice that the Commission received the following electric rate filings:

Docket Numbers: ER11-2649-001.

Applicants: 3C Solar LLC.

Description: Supplemental Information Regarding Petition for Order Accepting Market-Based Rate Tariff for Filing and Granting Waivers and Blanket Approvals of 3C Solar LLC.

Filed Date: 03/31/2011.

Accession Number: 20110331-5238.

Comment Date: 5 p.m. Eastern Time on Monday, April 11, 2011.

Docket Numbers: ER11-3238-000.

Applicants: PJM Interconnection, L.L.C.

Description: PJM Interconnection, L.L.C. submits tariff filing per 35.13(a)(2)(iii): Interconnection Service Agreements in Connection with the ATSI Integration to be effective 6/1/2011.

Filed Date: 03/31/2011.

Accession Number: 20110331-5062.

Comment Date: 5 p.m. Eastern Time on Thursday, April 21, 2011.

Docket Numbers: ER11-3239-000.

Applicants: Alabama Power Company.

Description: Alabama Power Company submits tariff filing per 35.13(a)(2)(iii): SWE (Black Warrior) NITSA Amendment Filing to be effective 1/1/2011.

Filed Date: 03/31/2011.

Accession Number: 20110331-5069.

Comment Date: 5 p.m. Eastern Time on Thursday, April 21, 2011.

Docket Numbers: ER11-3240-000.

Applicants: Hardwood Energy, LLC.

Description: Hardwood Energy, LLC submits tariff filing per 35.1: Hardwood Energy FERC Electric Tariff to be effective 3/31/2011.

Filed Date: 03/31/2011.

Accession Number: 20110331-5097.

Comment Date: 5 p.m. Eastern Time on Thursday, April 21, 2011.

Docket Numbers: ER11-3241-000.

Applicants: Southwest Power Pool, Inc.

Description: Southwest Power Pool, Inc. submits tariff filing per 35.13(a)(2)(iii): 2166 Westar Energy, Inc. NITSA NOA to be effective 3/1/2011.

Filed Date: 03/31/2011.

Accession Number: 20110331-5135.

Comment Date: 5 p.m. Eastern Time on Thursday, April 21, 2011.

Docket Numbers: ER11-3242-000.

Applicants: Florida Power & Light Company.

Description: Florida Power & Light Company submits tariff filing per 35: FPL Revision to Attachment C Pursuant to Order No. 676-E to be effective 3/31/2011.

Filed Date: 03/31/2011.

Accession Number: 20110331-5139.

Comment Date: 5 p.m. Eastern Time on Thursday, April 21, 2011.

Docket Numbers: ER11-3243-000.

Applicants: Southwest Power Pool, Inc.

Description: Southwest Power Pool, Inc. submits tariff filing per 35.13(a)(2)(iii): 2183 Kansas Municipal Energy Agency NITSA NOA to be effective 3/1/2011.

Filed Date: 03/31/2011.

Accession Number: 20110331-5146.

Comment Date: 5 p.m. Eastern Time on Thursday, April 21, 2011.

Docket Numbers: ER11-3244-000.

Applicants: Florida Power Corporation.

Description: Notice of Cancellation of Rate Schedule No. 196 of Florida Power Corporation.

Filed Date: 03/31/2011.

Accession Number: 20110331-5149.

Comment Date: 5 p.m. Eastern Time on Thursday, April 21, 2011.

Docket Numbers: ER11-3245-000.

Applicants: Florida Power Corporation.

Description: Notice of Cancellation of Rate Schedule No. 195 of Florida Power Corporation.

Filed Date: 03/31/2011.

Accession Number: 20110331-5150.

Comment Date: 5 p.m. Eastern Time on Thursday, April 21, 2011.

Docket Numbers: ER11-3246-000.

Applicants: Florida Power Corporation.

Description: Notice of Cancellation of Rate Schedule No. 118 of Florida Power Corporation.

Filed Date: 03/31/2011.

Accession Number: 20110331-5151.

Comment Date: 5 p.m. Eastern Time on Thursday, April 21, 2011.

Docket Numbers: ER11-3247-000.

Applicants: Midwest Independent Transmission System Operator, Inc.

Description: Midwest Independent Transmission System Operator, Inc. submits tariff filing per 35.13(a)(2)(iii): F096 FCA to be effective 4/1/2011.

Filed Date: 03/31/2011.

Accession Number: 20110331-5158.

Comment Date: 5 p.m. Eastern Time on Thursday, April 21, 2011.

Docket Numbers: ER11-3248-000.

Applicants: Southern California Edison Company.

Description: Southern California Edison Company submits tariff filing per 35.13(a)(2)(iii): 2011 TACBAA Update to be effective 6/1/2011.

Filed Date: 03/31/2011.

Accession Number: 20110331-5159.

Comment Date: 5 p.m. Eastern Time on Thursday, April 21, 2011.

Docket Numbers: ER11-3249-000.

Applicants: PJM Interconnection, L.L.C.

Description: PJM Interconnection, L.L.C. submits tariff filing per 35.13(a)(2)(iii): Queue No. V1-024-V1-025 Interim ISA Original Service Agreement No. 2850 to be effective 3/4/2011.

Filed Date: 03/31/2011.

Accession Number: 20110331-5179.

Comment Date: 5 p.m. Eastern Time on Thursday, April 21, 2011.

Docket Numbers: ER11-3250-000.

Applicants: PJM Interconnection, L.L.C.

Description: PJM Interconnection, L.L.C. submits tariff filing per 35.13(a)(2)(iii): Revisions to add Schedule 16-A Linden VFT Facility Imports into PJM's Tariff to be effective 6/1/2011.

Filed Date: 03/31/2011.

Accession Number: 20110331-5183.

Comment Date: 5 p.m. Eastern Time on Thursday, April 21, 2011.

Docket Numbers: ER11-3251-000.

Applicants: Midwest Independent Transmission System Operator, Inc.

Description: Midwest Independent Transmission System Operator, Inc. submits tariff filing per 35.13(a)(2)(iii): 3-31-2011 ATSI Withdrawal to be effective 6/1/2011.

Filed Date: 03/31/2011.

Accession Number: 20110331-5184.

Comment Date: 5 p.m. Eastern Time on Thursday, April 21, 2011.

Docket Numbers: ER11-3252-000.

Applicants: Consolidated Edison Company of New York, Inc.

Description: Consolidated Edison Company of New York, Inc. submits tariff filing per 35.13(a)(2)(iii): Cancellation of DRS to be effective 4/1/2011.

Filed Date: 03/31/2011.

Accession Number: 20110331-5187.

Comment Date: 5 p.m. Eastern Time on Thursday, April 21, 2011.

Docket Numbers: ER11-3253-000.

Applicants: Turner Energy, LLC.

Description: Turner Energy, LLC submits tariff filing per 35.1: Turner Energy FERC Electric Tariff to be effective 3/31/2011.

Filed Date: 03/31/2011.

Accession Number: 20110331-5196.

Comment Date: 5 p.m. Eastern Time on Thursday, April 21, 2011.

Take notice that the Commission received the following open access transmission tariff filings:

Docket Numbers: OA09-16-002.

Applicants: Northeast Utilities Service Company.

Description: Report/Form of Northeast Utilities Service Company Annual Refund Report—Order 890 Requirement.

Filed Date: 03/31/2011.

Accession Number: 20110331-5125.

Comment Date: 5 p.m. Eastern Time on Thursday, April 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 31, 2011.
Nathaniel J. Davis, Sr.,
Deputy Secretary.

[FR Doc. 2011-8266 Filed 4-6-11; 8:45 am]

BILLING CODE 6717-01-P